DEPARTMENT OF HEALTH AND HUMAN SERVICES

Administration for Children and Families

Announcing the Award of a Single-Source Expansion Supplement Grant to the National Association of Councils on Developmental Disabilities in Washington, DC

AGENCY: Administration on Developmental Disabilities, ACF, HHS.

ACTION: Notice of the award of a single-source program expansion supplement grant to the National Association of Councils on Developmental Disabilities, Washington, DC, to support self-advocacy summits.

CFDA Number: 93.631.

Statutory Authority: The Developmental Disabilities Assistance and Bill of Rights Act of 2000 (DD Act), Pub. L. 106-402, Section 129(b).

SUMMARY: The Administration for Children and Families (ACF), Administration on Developmental Disabilities (ADD), Office of Program Support (OPS) announces the award of a single-source program expansion supplement grant of $388,640 to the National Association of Councils on Developmental Disabilities (NACDD), Washington, DC, to support implementation of 3 to 4 self-advocacy summit meetings.

The self-advocacy summits will be interactive meetings requiring a high degree of participation from the attending self-advocates who will act as the primary presenters. The meetings are intended to educate both the network of ADD grantees on the ADD Program's four goals and, as such, every participant will be required to communicate their expertise related to:

The current status of self-advocacy in their home State, which will include reporting on support structures, activities, accomplishments, and challenges;

The discerned steps needed to strengthen and enhance current efforts at the State level; and

Recommendations for action items intended to strengthen and enhance current self-advocacy efforts at the national level.

Summit participants are primarily individuals with developmental disabilities (as defined by the DD Act) who are experts with specialized knowledge in the self-advocacy movement in their States. Other participants will include ADD grantees with specific expertise related to supporting individuals with developmental disabilities to fully participate in systems change and advocacy efforts in their States.

DATES: September 30, 2011 to September 29, 2012.

FOR FURTHER INFORMATION CONTACT: Jennifer Johnson, Administration on Developmental Disabilities, Administration for Children and Families, U.S. Department of Health and Human Services, Aerospace Center, 370 L'Enfant Promenade, SW., 2nd Floor, Washington, DC 20447; Telephone: (202) 690-5982; E-mail: jennifer.johnson@acf.hhs.gov

Dated: October 21, 2011.
Sharon B. Lewis,
Commissioner, Administration on Developmental Disabilities.

[FR Doc. 2011-28141 Filed 10-28-11; 8:45 am]

BILLING CODE 4184-38-P